FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 2, 2014.

A. Federal Reserve Bank of Richmond (Adam M. Drimer, Assistant Vice President) 701 East Byrd Street, Richmond, Virginia 23261-4528:

1. Benjamin M. Susman, and Dixie L. Susman, both of Beckley, West Virginia, as members of the Susman family control group; to acquire voting shares of Mount Hope Bankshares, Inc., and thereby indirectly acquire voting shares of Bank of Mount Hope, Inc., both in Mount Hope, West Virginia.

B. Federal Reserve Bank of St. Louis (Yvonne Sparks, Community Development Officer) P.O. Box 442, St. Louis, Missouri 63166-2034:

1. Jeffrey Harris Lowrey MD, Millennium Trust Company LLC, custodian for Jeffrey Lowrey MD SEP IRA, both of Eads, Tennessee; Jennifer Lauren Watson, Louisville, Kentucky; John Allen Lowrey; James Richard Lowrey, and Nancy Kemp Lowrey, all of Fairborn, Ohio; as members of the Lowrey family control group, to acquire voting shares of Germantown Capital Corporation, Inc., and thereby indirectly acquire voting shares of First Capital Bank, both in Germantown, Tennessee.

C. Federal Reserve Bank of Minneapolis (Jacquelyn K. Brunmeier, Assistant Vice President) 90 Hennepin Avenue, Minneapolis, Minnesota 55480-0291:

1. James C. Hays, Miami Beach, Florida, individually and as a member of a group acting in concert consisting of: Barlow Banking Corporation, Iowa Falls, Iowa; John R. Barlow, Mound, Minnesota; the John R. Barlow IRA, Mound, Minnesota; William L. Mershon, Miami Beach, Florida; Stephen T. Lerum, Hamel, Minnesota; and Howard B. Wenger, Iowa Falls, Iowa; to acquire voting shares of Northfield Bancshares, Inc., and thereby indirectly acquire voting shares of Community Resource Bank, both in Northfield, Minnesota.

Board of Governors of the Federal Reserve System, September 12, 2014.
Michael J. Lewandowski,
Associate Secretary of the Board.

[FR Doc. 2014-22209 Filed 9-17-14; 8:45 am]

BILLING CODE 6210-01-P